DEPARTMENT OF JUSTICE

Antitrust Division

Notice Pursuant to the National Cooperative Research and Production Act of 1993—Oregon Manufacturing Innovation Center Research and Development

Notice is hereby given that, on October 13, 2017, pursuant to Section 6(a) of the National Cooperative Research and Production Act of 1993, 15 U.S.C. 4301 et seq. (“the Act”), Oregon Manufacturing Innovation Center Research and Development (“OMIC R&D”) has filed written notifications simultaneously with the Attorney General and the Federal Trade Commission disclosing (1) the identities of the parties to the venture (2) the nature and objectives of the venture. The notifications were filed for the purpose of invoking the Act's provisions limiting the recovery of antitrust plaintiffs to actual damages under specified circumstances.

Pursuant to Section 6(b) of the Act, the identities of the parties to the venture are: ATI Specialty Alloys & Components, Pittsburg, PA; Blount International, Inc., Portland, OR; The Boeing Company, Chicago, IL; Daimler Trucks North America LLC, Portland, OR; Hangsterfer's Laboratories, Inc., Mantua, NJ; Oregon Institute of Technology, Klamath Falls, OR; Oregon State University, Corvallis, OR; Portland State University, Portland, OR; Silver Eagle Manufacturing Co., Portland, OR; and Vigor, Portland, OR.

The general area of OMIC R&D's planned activity is bringing together industry, higher education, and government in partnership to develop new tools, techniques, and technologies to address near-term manufacturing challenges through applied research and advanced technical training.

Patricia A. Brink,
Director of Civil Enforcement, Antitrust Division.

[FR Doc. 2017-24770 Filed 11-15-17; 8:45 am]

BILLING CODE P